ENVIRONMENTAL PROTECTION AGENCY

[EPA-HQ-OPP-2011-0933; FRL-9342-2]

Imidacloprid, Methomyl, and Oxamyl; Cancellation Order for Amendments To Terminate Uses

AGENCY: Environmental Protection Agency (EPA).

ACTION: Notice.

SUMMARY: This notice announces EPA's order for amendments to terminate uses, voluntarily requested by registrants and accepted by the Agency, of products containing imidacloprid, methomyl, and oxamyl, pursuant to section 6(f)(1) of the Federal Insecticide, Fungicide, and Rodenticide Act (FIFRA), as amended. This cancellation order follows a January 11, 2012 Federal Register Notice of Receipt of Requests from the registrants listed in Table 2 of Unit II to voluntarily amend certain imidacloprid pesticide registrations to terminate use on almonds, to voluntarily amend certain methomyl product registrations to delete use on grapes, and to voluntarily amend oxamyl product registrations to delete use on soybeans. These are not the last products containing imidacloprid, methomyl, or oxamyl registered for use in the United States. In the January 11, 2012 Notice, EPA indicated that it would issue an order implementing the amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested amendments to terminate uses. Any distribution, sale, or use of the products subject to this cancellation order is permitted only in accordance with the terms of this order, including any existing stocks provisions.

DATES: The amendments are effective April 11, 2012.

FOR FURTHER INFORMATION CONTACT: Contact the appropriate Chemical Review Manager identified in the table below for the pesticide active ingredient of interest:

Pesticide active ingredient | Chemical review manager's name and contact information
Imidacloprid | Rusty Wasem, (703) 305-6979, wasem.russell@epa.gov.
Methomyl | Tom Myers, (703) 308-8589, myers.tom@epa.gov.
Oxamyl | Monica Wait, (703) 347-8019, wait.monica@epa.gov.

Alternatively, you can write to the appropriate Chemical Review Manager's attention at: Pesticide Re-evaluation Division (7508P), Office of Pesticide Programs, Environmental Protection Agency, 1200 Pennsylvania Ave. NW., Washington, DC 20460-0001.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0933. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces amendments to delete uses, as requested by registrants, of products registered under section 3 of FIFRA. These registrations are listed in Table 1 of this unit.

Table 1—Imidacloprid, Methomyl, and Oxamyl Product Registration Amendments To Delete Uses
EPA Registration No. | Product name | Active ingredient | Use deleted
264-755 | Imidacloprid Technical | Imidacloprid | Almonds.
264-756 | Merit 75% Concentrate Insecticide | Imidacloprid | Almonds.
264-1131 | Gaucho 600 Flowable Concentrate | Imidacloprid | Almonds.
66222-156 | MANA Alias 4F | Imidacloprid | Almonds.
66222-228 | Pasada 1.6 Flowable Insecticide | Imidacloprid | Almonds.
70506-122 | UPI Imidacloprid Technical Insecticide | Imidacloprid | Almonds.
70506-153 | Imidacloprid 70 DF Agricultural Insecticide | Imidacloprid | Almonds.
70506-154 | Fist 1.6 F Insecticide | Imidacloprid | Almonds.
81598-5 | Rotam Imidacloprid Technical | Imidacloprid | Almonds.
82542-16 | Technical Imidacloprid | Imidacloprid | Almonds.
82542-25 | Imidacloprid 2F Insecticide | Imidacloprid | Almonds.
82633-8 | Imidacloprid Technical | Imidacloprid | Almonds.
83529-6 | Midash Forte Insecticide | Imidacloprid | Almonds.
87290-14 | Willowood Imidacloprid 4SC | Imidacloprid | Almonds.
83558-34 | Imidacloprid Technical Insecticide | Imidacloprid | Almonds.
352-361 | DuPont Methomyl Composition | Methomyl | Grapes.
352-366 | DuPont Methomyl Technical | Methomyl | Grapes.
352-372 | Vydate L Insecticide/Nematicide | Oxamyl | Soybeans.
352-400 | DuPont Oxamyl Technical 42 Insecticide/Nematicide | Oxamyl | Soybeans.
352-532 | Vydate C-LV Insecticide/Nematicide | Oxamyl | Soybeans.

Table 2 of this unit includes the names and addresses of record for all registrants of the products in Table 1 of this unit, in sequence by EPA company number. The company corresponds to the first part of the EPA registration numbers of the products listed above.

Table 2—Registrants of Amended Products
EPA Company No. | Company name and address
264 | Bayer CropScience, 2 T.W. Alexander Drive, PO Box 12014, Research Triangle Park, NC 27709.
352 | E.I. Du Pont de Nemours and Co., Inc., DuPont Crop Protection, 1007 Market Street, Wilmington, DE 19898.
66222 | Makhteshim Agan of North America, Inc., 4515 Falls of Neuse Road, Suite 300, Raleigh, NC 27609.
70506 | United Phosphorus, Inc., 630 Freedom Business Center, Suite 402, King of Prussia, PA 19406.
81598 | IPM Resources LLC, 4032 Crockers Lake Blvd., Suite 818, Sarasota, FL 34238.
82542 | Source Dynamics, Inc., 10039 E. Troon North Drive, Scottsdale, AZ 85262.
82633 | Sharda Worldwide Exports, 7460 Lancaster Pike, Suite 9, Hockessin, DE 19707.
83529 | Sharda USA LLC, 7460 Lancaster Pike, Suite 9, Hockessin, DE 19707.
83558 | Celsius Property B.V. Amsterday (NL), c/o Makhteshim Agan of North America, Inc., 4515 Falls of Neuse Road, Suite 300, Raleigh, NC 27609.
87290 | Willowood, LLC, 1600 NW Garden Valley Blvd., Suite 130, Roseburg, OR 97471.

III. Summary of Public Comments Received and Agency Response to Comments

During the public comment period provided, EPA received no comments in response to the January 11, 2012 Federal Register Notice announcing the Agency's receipt of the requests for voluntary amendments to delete uses of products listed in Table 1 of Unit II.

IV. Cancellation Order

Pursuant to FIFRA section 6(f), EPA hereby approves the requested amendments to terminate use of imidacloprid on almonds, methomyl on grapes, and oxamyl on soybeans for the product registrations identified in Table 1 of Unit II. Accordingly, the Agency hereby orders that the product registrations identified in Table 1 of Unit II are amended to terminate the affected uses. The effective date of the cancellations that are the subject of this notice is April 11, 2012. Any distribution, sale, or use of existing stocks of the products identified in Table 1 of Unit II in a manner inconsistent with any of the provisions for disposition of existing stocks set forth in Unit VI will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on January 11, 2012 (77 FR 1684) (FRL-9328-2). The comment period closed on February 10, 2012.

VI. Provisions for Disposition of Existing Stocks

Existing stocks are those stocks of registered pesticide products which are currently in the United States and which were packaged, labeled, and released for shipment prior to the effective date of the action. The existing stock provisions for the products subject to this order are as follows.

Once EPA has approved amended imidacloprid product labels reflecting the requested amendments to delete use on almonds, registrants are permitted to sell or distribute products listed in Table 1 of Unit II under the previously approved labeling until October 11, 2013, a period of 18 months after publication of the cancellation order in this Federal Register, unless other restrictions have been imposed. Thereafter, imidacloprid registrants will be prohibited from selling or distributing the products whose labels include the deleted use identified in Table 1 of Unit II, except for export consistent with FIFRA section 17, or for proper disposal.

For methomyl, now that EPA has approved amended product labels reflecting the requested amendments to delete use on grapes, the registrants are permitted to sell or distribute products under the previously approved labeling until June 8, 2012. Thereafter, registrants will be prohibited from selling or distributing the products whose labels include the deleted use identified in Table 1 of Unit II, except for export consistent with FIFRA section 17 or for proper disposal.

For imidacloprid and methomyl, persons other than the registrants may sell, distribute, or use existing stocks of products whose labels include the deleted uses until supplies are exhausted, provided that such sale, distribution, or use is consistent with the terms of the previously approved labeling on, or that accompanied, the deleted uses.

For the oxamyl voluntary amendment, use on soybeans was removed from all oxamyl product labels in 2006 following the Oxamyl Reregistration Eligibility Decision. Because the soybean use has not been included on oxamyl product labels since 2006, no existing stocks period is needed.

List of Subjects

Environmental protection, almond, imidacloprid, grape, methomyl, soybean, oxamyl, Pesticides and pests.

Dated: March 30, 2012.
Richard P. Keigwin, Jr.,
Director, Pesticide Re-evaluation Division, Office of Pesticide Programs.

[FR Doc. 2012-8493 Filed 4-10-12; 8:45 am]

BILLING CODE 6560-50-P